DEPARTMENT OF HEALTH AND HUMAN SERVICES

Office of the Secretary

Secretary's Advisory Committee on Regulatory Reform; Notice of Intent to Establish

ACTION: Notice of intent to establish a Secretarial Advisory Committee on Regulatory Reform.

SUMMARY: This notice is published in accordance with Section 9(a)(2) of the Federal Advisory Committee Act. Notice is hereby given that the Secretary of the Department of Health and Human Services intends to establish an Advisory Committee on Regulatory Reform.

FOR FURTHER INFORMATION CONTACT: Christy Schmidt, Executive Coordinator, Secretary's Advisory Committee on Regulatory Reform, Office of the Assistant Secretary for Planning and Evaluation, 200 Independence Avenue, SW., Room 415F, Washington, DC, 20201, (202) 690-7858.

SUPPLEMENTARY INFORMATION: The Department of Health and Human Services (HHS) seeks to ensure that its programs and the activities they are designed to foster are effective and efficient, have broad impact on the intended clientele, and are readily accessible to them. To that end, HHS is examining its array of regulations with a view to identifying opportunities for reforms that will maintain or enhance program performance in selected mission areas and at the same time reduce burdens and costs on effected entities. The Secretary, therefore, is establishing an Advisory Committee on Regulatory Reform.

This Committee is governed by the provisions of the Federal Advisory Committee Act, Public Law 92-463, as amended (5 U.S.C. Appendix 2), which sets forth standards for the formation of advisory committees and implementing regulations (41 CFR part 102-3).

The Secretary's Advisory Committee on Regulatory Reform will provide findings and recommendations to the Secretary regarding potential regulatory changes. As part of their responsibilities, the Committee will hold regional public hearings and solicit public comments regarding HHS regulations that involve health care delivery, operations, health and biomedical research as well as the development of pharmaceuticals and other medical products. The Committee shall (a) review candidate regulatory changes identified through the regional hearings, through solicitations of written comments from the public, or through consultation with HHS staff and (b) advise whether, if effected, these candidate changes would have beneficial results. As appropriate, the Committee shall consider the potentially most beneficial regulatory reforms further and advise the Secretary regarding their priority for implementation.

The Committee shall consist of not more than 20 members including the Chairperson or Co-Chairpersons. Appointments shall be made by the Secretary from authorities knowledgeable in the fields of health care delivery, health systems operations, advocacy for patients' interests, health insurance, development of pharmaceuticals and other medical products, and biomedical and health services research. Attention shall be given to equitable geographic distribution and to ethnic and gender representation.

The Committee shall meet three times unless, after consultation with the Chairperson or Co-Chairpersons, the Secretary determines that additional meetings are necessary to fulfill the purpose of the Committee. All meetings shall be at the call of the Chairperson or Co-Chairpersons. An official of the federal government shall be present at all meetings. Meetings shall be open to the public. Advance notice of all meetings shall be given to the public. Meetings shall be conducted and records of proceedings shall be kept in accordance with applicable laws and Departmental regulations.

Unless renewed by appropriate action prior to its expiration, the Secretary's Advisory Committee on Regulatory Reform shall terminate on [insert date one year from charter approval].

Dated: August 29, 2001.
Tommy G. Thompson,
Secretary.

[FR Doc. 01-22214 Filed 8-30-01; 11:42 am]

BILLING CODE 4154-05-P